DEPARTMENT OF COMMERCE

International Trade Administration

[A-337-803]

Fresh Atlantic Salmon from Chile: Amended Final Results of 2000-2001 Administrative Review

AGENCY: Import Administration, International Trade Administration, Department of Commerce.

EFFECTIVE DATE: March 7, 2003.

SUMMARY: On February 11, 2003, the Department of Commerce (the Department) published in the Federal Register the final results of the administrative review of the antidumping duty order on fresh Atlantic salmon from Chile for the period July 1, 2000, through June 30, 2001. See Notice of Final Results of Antidumping Duty Administrative Review, Final Determination to Revoke the Order in Part, and Partial Rescission of Antidumping Duty Administrative Review: Fresh Atlantic Salmon From Chile, 68 FR 6878 (February 11, 2003) (Final Results).

In those results the Department inadvertently omitted the effective date of revocation for those companies that were revoked from the order. This information is provided in the section entitled “Effective Date of Revocation.”

FOR FURTHER INFORMATION CONTACT: Vicki Schepker or Constance Handley, at (202) 482-1756 or (202) 482-0631, respectively, AD/CVD Enforcement Office V, Group II, Import Administration, International Trade Administration, U.S. Department of Commerce, 14th Street & Constitution Avenue, NW, Washington, DC 20230.

SUPPLEMENTARY INFORMATION:

Background

On February 11, 2003, the Department published the final results in this administrative review. In those results, the Department revoked the antidumping duty order as to Cultivos Marinos Chiloe, Ltda. (Cultivos Marinos), Marine Harvest (Chile) S.A. (Marine Harvest), Salmones Mainstream S.A. (Mainstream), and Salmones Pacifico Sur S.A. (Pacifico Sur). However, the Department inadvertently failed to indicate the effective date of revocation.

Scope of Review

The product covered by this review is fresh, farmed Atlantic salmon, whether imported “dressed” or cut. Atlantic salmon is the species Salmo salar, in the genus Salmo of the family salmoninae. “Dressed” Atlantic salmon refers to salmon that has been bled, gutted, and cleaned. Dressed Atlantic salmon may be imported with the head on or off; with the tail on or off; and with the gills in or out. All cuts of fresh Atlantic salmon are included in the scope of the review. Examples of cuts include, but are not limited to: crosswise cuts (steaks), lengthwise cuts (fillets), lengthwise cuts attached by skin (butterfly cuts), combinations of crosswise and lengthwise cuts (combination packages), and Atlantic salmon that is minced, shredded, or ground. Cuts may be subjected to various degrees of trimming, and imported with the skin on or off and with the “pin bones” in or out.

Excluded from the scope are (1) fresh Atlantic salmon that is “not farmed” (i.e., wild Atlantic salmon); (2) live Atlantic salmon; and (3) Atlantic salmon that has been subject to further processing, such as frozen, canned, dried, and smoked Atlantic salmon, or processed into forms such as sausages, hot dogs, and burgers.

The merchandise subject to this review is classifiable under item numbers 0302.12.0003 and 0304.10.4093, 0304.90.1009, 0304.90.1089, and 0304.90.9091 of the Harmonized Tariff Schedule of the United States (HTSUS). Although the HTSUS subheadings are provided for convenience and customs purposes, the written description of the merchandise is dispositive.

Effective Date of Revocation

The revocation of the order applies to all entries of subject merchandise that are produced and exported by Cultivos Marinos, Mainstream, Marine Harvest, and Pacifico Sur, entered, or withdrawn from warehouse, for consumption on or after July 1, 2001. The Department will order the suspension of liquidation ended for all such entries and will instruct the U.S. Customs Service (Customs) to release any cash deposits or bonds. The Department will further instruct Customs to refund with interest any cash deposits on entries made after June 30, 2001.

Therefore, we are amending the Final Results to reflect the above noted effective date of revocation.

Assessment Rates

Absent an injunction from the U.S. Court of International Trade, the Department will issue appropriate assessment instructions directly to Customs within 15 days of publication of these amended final results of review.

We are issuing and publishing this determination and notice in accordance with sections 751(a)(1) and 777(i) of the Act.

Dated: February 28, 2003.
Faryar Shirzad,
Assistant Secretary for Import Administration.

[FR Doc. 03-5493 Filed 3-6-02; 8:45 am]

BILLING CODE 3510-DS-S